DEPARTMENT OF THE INTERIOR

Bureau of Land Management

[LLNMA02000.L51010000.ER0000.19X LVRWG19G1360; NMNM 136976]

Notice of Availability of the Record of Decision for the Final Environmental Impact Statement and Proposed Land Use Plan Amendment for Borderlands Wind Project in Catron County, New Mexico

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Record of Decision (ROD) to authorize a right-of-way (ROW) and amend the 2010 Socorro Field Office Resource Management Plan (RMP) for the Borderlands Wind Project (Project) and by this notice, is announcing the availability of the ROD.

DATES: The Assistant Secretary of the Department of the Interior signed the ROD on August 3, 2020.

ADDRESSES: Copies of the ROD are available for public inspection at the Socorro Field Office, Bureau of Land Management, 901 S Hwy. 85, Socorro, New Mexico 87801 or, via the internet at the project's ePlanning page at https://www.blm.gov/programs/planning-and-nepa/plans-in-development/new-mexico/proposed-borderlands-wind-project.

FOR FURTHER INFORMATION CONTACT: Virginia Alguire, BLM Socorro Field Office, 901 S Hwy. 85, Socorro, New Mexico 87801; phone (575) 838-1290, or email to valguire@blm.gov. Persons who use a telecommunications device for the deaf (TDD) may call the Federal Information Relay Service (FIRS) at 1-800-877-8339 to contact Ms. Alguire during normal business hours. The FIRS is available 24 hours a day, 7 days a week, to leave a message or question with the above individual. You will receive a reply during normal business hours.

SUPPLEMENTARY INFORMATION: Borderlands Wind, LLC submitted an application to the BLM requesting authorization to construct, operate, maintain, and terminate an up-to-100 megawatt commercial wind energy generation facility—Borderlands Wind Project (NMNM136976), in Catron County, New Mexico, within a boundary that encompasses land managed by the BLM, the New Mexico State Land Office (NMSLO), and private landowners. The project would be located south of U.S. Route 60 in Catron County near Quemado, New Mexico, and the Arizona-New Mexico border. Authorization of this proposal requires amendments to the 2010 Socorro Field Office RMP to modify the visual resource management class in the project area and to modify a ROW avoidance area.

The Final EIS analyzed the direct, indirect and cumulative environmental impacts of the Proposed Action, Alternative 1 (optimize the proposed wind facility components in order to minimize potential environmental impacts), Alternative 2 (change in the turbine generation types), and the No Action Alternative. Alternatives 1 and 2 would be constructed and operating and maintained with the same project area. The Proposed Action and Alternative 1 would construct 40 turbines. However, because of the difference in the types of turbines, Alternative 2, the BLM Preferred Alternative would only construct 36 turbines instead of 40 turbines within the same area as Alternative 1. The No Action Alternative would be a continuation of existing conditions.

On May 27, 2020, the U.S. Treasury Department and the Internal Revenue Service issued Notice 2020-41, providing an extension of the timeframe to claim tax credits for the development of renewable energy projects, which includes wind generating facilities. On June 22, 2020, the Proponent informed the BLM it must use GE 2.3 MW turbines instead of the GE 2.5 MW turbines for the Project to obtain the full tax incentive. As a result of these new circumstances, Alternative 2A is a modified version of Alternative 2 to include the construction of 30 GE 3.0 MW and 4 GE 2.3 MW turbines instead of the 4 GE 2.5 MW turbines. Alternative 2A would not result in significant effects outside the range of effects already analyzed in the EIS because use of the 4 GE 2.3 MW turbines was already evaluated in both the Proposed Action and Alternative 1. The difference in potential impacts between Alternative 2 and Alternative 2A would not be discernable because the turbine generator model characteristics are technically similar with the exception of one physical aspect, which is the hub height on the GE 2.3 MW is 33 feet shorter than the GE 2.5 MW turbine model. The difference between the GE 2.3 MW and GE 2.5 MW turbine models are shown on Table 2-1 of the Final EIS. The environmental consequences of using the GE 2.3 MW turbines were discussed as part of the Proposed Action and Alternative 1. There are no other modifications or changes in the construction, maintenance, operation, or decommissioning activities associated with the modified Alternative 2 (known as Alternative 2A). The difference in potential impacts between the Alternative 2 and Alternative 2A are not substantial when taking two of the key resources into consideration—risks to eagles and visual resource impacts with the 33 feet hub height reduction for four turbines. Therefore, supplementation is not necessary because Alternative 2A is within the range of alternatives evaluated in the EIS and will not significantly alter the impacts from Alternative 2 as analyzed.

A Notice of Intent to prepare an EIS for the proposed Project was published in the Federal Register on November 9, 2018 (83 FR 56097). The public scoping period closed on December 10, 2018. The BLM held one public scoping meeting on November 14, 2018. The BLM received 51 public scoping comments during the 45-day scoping period. The scoping comments focused on wildlife; visual and cultural resources; light pollution, human health, local economic benefits; and property values.

A Notice of Availability (NOA) to publish the Draft EIS and RMP Amendment for the proposed Project was published in the Federal Register on August 9, 2019 (84 FR 39366). The BLM held one public comment meeting. The public comment period closed November 7, 2019. The BLM received 39 letters/comment forms/emails and 247 individual comments during the 90-day public comment period. The comments focused on effects to sensitive wildlife species specifically avian and bats, change to Visual Resource Management Class as a result of the impacts to visual resources and change to the existing rural landscape character; groundwater level changes during construction, lack of benefit to the local area, and decreased property value concerns. Comments on the Draft EIS and RMP Amendment EIS were considered and incorporated, as appropriate, into the Final EIS and Proposed RMP Amendment. Public comments did not result in the addition of substantive revisions to the Draft EIS and RMP Amendment that was published in August 2019. Responses to all comments are in Appendix H of the Final EIS.

On April 10, 2020, an NOA of the Final EIS and Proposed RMP Amendment for the Project published in the Federal Register (84 FR 71455), which initiated a 30-day public protest period and a 60-day Governor's consistency review. The BLM received six (6) protest letters; the BLM considered each protest letter in its decision. The Protest Resolution Report was completed on July 21, 2020 and is available for public inspection at the addresses listed above. On May 14, 2020, the BLM received a written response from the Governor's office with no inconsistencies identified. After environmental analysis, consideration of public comments, and application of pertinent Federal laws, it is the decision of the Department of the Interior to authorize the Project in Catron County, New Mexico, and amend the 2010 Socorro Field Office RMP by selecting Alternative 2A, which was a modification of the agency's Preferred Alternative. Approval of these decisions constitutes the final decision of the Department of the Interior and, in accordance with the regulations at 43 CFR 4.410(a)(3), is not subject to appeal under Departmental regulations at 43 CFR part 4. Any challenge to these decisions, including the BLM Authorized Officer's issuance of the right-of-way as approved by this decision, must be brought to the Federal district court.

Authority: 40 CFR 1506.6, 40 CFR 1506.10.

Timothy R. Spisak,
New Mexico State Director.

[FR Doc. 2020-17431 Filed 8-13-20; 8:45 am]

BILLING CODE P